DEPARTMENT OF THE TREASURY

Submission for OMB Review; Comment Request

January 2, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 7, 2001 to be assured of consideration.

Internal Revenue Service (IRS)

OMB Number: 1545-1573.

Regulation Project Number: REG-130477-00 and REG-130481-00 NPRM (formerly REG-209463-82 NPRM).

Type of Review: Extension.

Title: Required Distributions from Retirement Plans.

Description: The regulation permits a taxpayer to name a trust as the beneficiary of the employee's benefit under a retirement plan and use the life expectancies of the beneficiaries of the trust to determine the required minimum distribution, if certain conditions are satisfied.

Respondents: Individuals or households.

Estimated Number of Respondents: 1,000.

Estimated Burden Hours Per Respondent: 20 minutes.

Estimated Total Reporting/Recordkeeping Burden: 333 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-445 Filed 1-5-01; 8:45 am]

BILLING CODE 4830-01-U